DEPARTMENT OF TRANSPORTATION

Federal Aviation Administration

14 CFR Part 39

[Docket No. FAA-2017-0130; Directorate Identifier 2016-NM-058-AD]

RIN 2120-AA64

Airworthiness Directives; Dassault Aviation Airplanes

AGENCY: Federal Aviation Administration (FAA), DOT.

ACTION: Notice of proposed rulemaking (NPRM).

SUMMARY: We propose to adopt a new airworthiness directive (AD) for all Dassault Aviation Model MYSTERE-FALCON 50 airplanes and FALCON 2000 airplanes. This proposed AD was prompted by a report indicating that during ground maintenance, a Model FALCON 2000 airplane experienced a loss of hydraulic pressure affecting both hydraulic systems due to damage to both brake hoses on the main landing gear (MLG). This proposed AD would require an inspection for certain brake hoses, installation of protective wraps or installation of certain brake hoses, and replacement of certain brake hoses. We are proposing this AD to address the unsafe condition on these products.

DATES: We must receive comments on this proposed AD by May 8, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Dassault Falcon Jet Corporation, Teterboro Airport, P.O. Box 2000, South Hackensack, NJ 07606; telephone: 201-440-6700; Internet: http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0130; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone: 425-227-1137; fax: 425-227-1149.

SUPPLEMENTARY INFORMATION:

Comments Invited

We invite you to send any written relevant data, views, or arguments about this proposed AD. Send your comments to an address listed under the ADDRESSES section. Include “Docket No. FAA-2017-0130; Directorate Identifier 2016-NM-058-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2013-0255, dated October 23, 2013 (referred to after this as the Mandatory Continuing Airworthiness Information, or “the MCAI”), to correct an unsafe condition for all Dassault Aviation Model MYSTERE-FALCON 50 airplanes and FALCON 2000 airplanes. The MCAI states:

During ground maintenance, a Falcon 2000 aeroplane experienced a loss of hydraulic pressure, affecting both hydraulic systems.

The investigation results revealed that this event was due to damage to both brake hoses on the same main landing gear (MLG), which chafed against the torque link assembly during MLG extension/retraction cycle. The Part Numbers (P/N) of the affected brake hoses are P/N AE705317-1 and P/N 00-200-1268, which are made of a braided stainless steel sleeve.

This condition, if not detected and corrected, could lead to loss of braking during landing or a rejected take-off, possibly resulting in a runway excursion. In addition, there is a risk of fire if the leaking brake hydraulic fluid reaches hot parts.

For the reasons described above, this [EASA] AD requires a one-time inspection of the brake hoses to identify the P/N and determine the presence of protection against chafing and, depending on findings, installation of protective wraps or replacement of the brake hoses with serviceable parts that have a Dacron sleeve protection.

You may examine the MCAI in the AD docket on the Internet at http://www.regulations.gov by searching for and locating Docket No. FAA-2017-0130.

Related Service Information Under 1 CFR Part 51

Dassault has issued the following service information:

• Dassault Service Bulletin F50-510, Revision 2, dated December 20, 2012; and Dassault Service Bulletin F2000-382, Revision 2, dated May 12, 2011. This service information describes procedures for an inspection of the brake hoses to identify whether brake hoses having certain part numbers are installed, and installation of protective wraps on the brake hoses or installation of certain brake hoses that are fitted with Dacron sleeves. These documents are distinct since they apply to different airplane models.

• Dassault Service Bulletin F50-518, dated April 14, 2011; and Dassault Service Bulletin F2000-368, dated May 29, 2009. This service information describes replacement of certain brake hoses. These documents are distinct since they apply to different airplane models.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 302 airplanes of U.S. registry.

We estimate the following costs to comply with this proposed AD:

Estimated Costs
Action | Labor cost | Parts cost | Cost per product | Cost on U.S. operators
Inspection | 1 work-hour × $85 per hour = $85 | $0 | $85 | $25,670

We estimate the following costs to do any necessary installations and replacements that would be required based on the results of the proposed inspection. We have no way of determining the number of airplanes that might need these installations and replacements:

On-Condition Costs
Action | Labor cost | Parts cost | Cost per product
Installation of brake hose | 1 work-hour × $85 per hour = $85 | $340 | $425
Installation of protective wraps | 1 work-hour × $85 per hour = $85 | 340 | 425
Replacement | 1 work-hour × $85 per hour = $85 | 340 | 425

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2017-0130; Directorate Identifier 2016-NM-058-AD.

(a) Comments Due Date

We must receive comments by May 8, 2017.

(b) Affected ADs

None.

(c) Applicability

This AD applies to Dassault Aviation Model MYSTERE-FALCON 50 airplanes and FALCON 2000 airplanes, certificated in any category, all serial numbers.

(d) Subject

Air Transport Association (ATA) of America Code 32, Landing gear.

(e) Reason

This AD was prompted by a report indicating that during ground maintenance, a Model FALCON 2000 airplane experienced a loss of hydraulic pressure affecting both hydraulic systems due to damage to both brake hoses on the main landing gear (MLG). We are issuing this AD to detect and correct unprotected brake hoses, which could lead to loss of braking during landing or a rejected take-off, and result in a runway excursion and a risk of fire if the leaking brake hydraulic fluid reaches hot parts.

(f) Compliance

Comply with this AD within the compliance times specified, unless already done.

(g) Inspection

Within 9 months after the effective date of this AD, inspect the brake hoses to identify whether any brake hose having part number (P/N) AE705317-1 or P/N 00-200-1268 is installed. A review of airplane maintenance records is acceptable in lieu of this inspection if the part number of the brake hose can be conclusively determined from that review.

(h) Installation

If, during the inspection required by paragraph (g) of this AD, it is determined that any brake hose having P/N AE705317-1 or P/N 00-200-1268 is installed, do the actions specified in paragraph (h)(1) or (h)(2) of this AD.

(1) Install protective wraps on the brake hoses, in accordance with the Accomplishment Instructions of Dassault Service Bulletin F50-510, Revision 2, dated December 20, 2012; or Dassault Service Bulletin F2000-382, Revision 2, dated May 12, 2011; as applicable.

(2) Install brake hoses having P/N 00-200-1534 that are fitted with Dacron sleeves, in accordance with the Accomplishment Instructions of Dassault Service Bulletin F50-518, dated April 14, 2011; or Dassault Service Bulletin F2000-368, dated May 29, 2009; as applicable.

(i) Replacement

Within 6,000 flight cycles, or within 149 months, whichever occurs first after the effective date of this AD: Replace brake hoses having P/N AE705317-1 and P/N 00-200-1268 with brake hoses having P/N 00-200-1534 that are fitted with Dacron sleeves, in accordance with the Accomplishment Instructions of Dassault Service Bulletin F50-518, dated April 14, 2011; or Dassault Service Bulletin F2000-368, dated May 29, 2009; as applicable. Once brake hoses having P/N 00-200-1534 are fitted in an MLG leg, no further action is required for that MLG leg, as specified in paragraph (j) of this AD.

(j) Provisions for Unaffected MLG Leg Assemblies

If, during the inspection required by paragraph (g) of this AD, it is determined that the airplane is equipped with an MLG leg assembly with a part number specified in table 1 to paragraph (j) of this AD, the requirement of paragraph (h) of this AD is not applicable, provided that the MLG leg assembly has not been modified in service after its installation on an airplane.

Table 1 to Paragraph (j) of This AD—MLG Leg Assembly Not Affected
Model | MLG leg position | Part No.
MYSTERE-FALCON 50 airplanes | Left Hand (LH) | C23791-1009 amdt F.
MYSTERE-FALCON 50 airplanes | Right Hand (RH) | C23792-1009 amdt F.
FALCON 2000 | LH | D23345000-7 amdt B.
FALCON 2000 | RH | D23346000-7 amdt B.

Note 1 to paragraph (j) of this AD: The parts specified in table 1 to paragraph (j) of this AD are known to be delivered with brake hoses having P/N 00-200-1534 that are fitted with Dacron sleeves.

(k) Parts Installation Limitation

As of the effective date of this AD, no person may install a brake hose having P/N AE705317-1 or P/N 00-200-1268 on any airplane, unless the brake hose has been inspected to verify that protective wraps are installed on the hose, in accordance with the Accomplishment Instructions of Dassault Service Bulletin F50-510, Revision 2, dated December 20, 2012; or Dassault Service Bulletin F2000-382, Revision 2, dated May 12, 2011; as applicable.

(l) Parts Installation Prohibition

As of the effective date of this AD, no person may install, on any airplane, a brake hose having P/N AE705317-1 or P/N 00-200-1268, or an MLG leg or shock absorber equipped with a brake hose having P/N AE705317-1 or P/N 00-200-1268, after the actions in paragraphs (h)(2) or (i) of this AD are done.

(m) Credit for Previous Actions

This paragraph provides credit for actions required by paragraphs (h)(1) and (k) of this AD, if those actions were performed before the effective date of this AD using Dassault Service Bulletin F50-510, Revision 1, dated December 15, 2010; or Dassault Service Bulletin F2000-382, Revision 1, dated December 15, 2010.

(n) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone: 425-227-1137; fax: 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(o) Related Information

(1) Refer to Mandatory Continuing Airworthiness Information (MCAI) EASA AD 2013-0255, dated October 23, 2013, for related information. This MCAI may be found in the AD docket on the Internet at http://www.regulations.gov by searching for and locating Docket No. FAA-2017-0130.

(2) For service information identified in this AD, contact Dassault Falcon Jet Corporation, Teterboro Airport, P.O. Box 2000, South Hackensack, NJ 07606; telephone: 201-440-6700; Internet: http://www.dassaultfalcon.com. You may view this service information at the FAA, Transport Airplane Directorate, 1601 Lind Avenue SW., Renton, WA. For information on the availability of this material at the FAA, call 425-227-1221.

Issued in Renton, Washington, on March 8, 2017.
Michael Kaszycki,
Acting Manager, Transport Airplane Directorate, Aircraft Certification Service.

[FR Doc. 2017-05235 Filed 3-22-17; 8:45 am]

BILLING CODE 4910-13-P